DEPARTMENT OF DEFENSE

Department of the Navy

Record of Decision for Development of Military Family Housing (MFH) in the San Diego Region

AGENCY: Department of the Navy, DoD.

ACTION: Notice of Record of Decision.

SUMMARY: The Department of the Navy (DON) announces its decision to construct up to 1,600 MFH units and supporting infrastructure at Marine Corps Air Station (MCAS) Miramar, San Diego, CA. This will be accomplished by implementing the MFH Site 8A Alternative, as described in the Final Environmental Impact Statement (FEIS) for Military Family Housing in the San Diego Region. This decision will greatly improve conditions for enlisted service members and their families.

FOR FURTHER INFORMATION CONTACT: Commander, Southwest Division, Naval Facilities Engineering Command, Attn: Sheila Donovan, Code 05G.SD, 1220 Pacific HWY, San Diego, CA 92132-5190, telephone (619)-532-1253.

SUPPLEMENTARY INFORMATION: The text of the entire Record of Decision (ROD) is provided as follows:

Pursuant to section 102(2)(c) of the National Environmental Policy Act (NEPA) of 1969, 42 U.S.C. 4321 et seq.; the Council on Environmental Quality (CEQ) regulations (40 CFR parts 1500-1508); and Department of the Navy regulations (32 CFR part 775); the Department of the Navy announces its decision to construct up to 1,600 MFH units and supporting infrastructure at MCAS Miramar. This decision implements the preferred alternative identified in the FEIS for Military Family Housing in the San Diego Region.

The purpose of the project is to provide suitable, affordable housing units for enlisted military personnel and their families in reasonable proximity to the installations where they are assigned. The projected MFH shortfall for the San Diego region is 2,870 units by 2007. Additional suitable, affordable MFH for enlisted military families is, therefore, required.

The availability of suitable, affordable MFH for enlisted military families will make a positive contribution to their quality of life. This improved quality of life and subsequent increase in morale, job satisfaction, and enlisted service retention rates ultimately have a direct, positive impact on the DON's combat readiness and mission capabilities. Therefore, the provision of suitable, affordable MFH will support the mission of local Navy and Marine Corps commands. The Proposed Action will not completely eliminate the existing and projected MFH shortfall, but it will vastly improve enlisted military family living conditions by providing up to 1,600 MFH units for enlisted military families.

The Federal action will include construction of up to 1,600 MFH units in one 264-acre development area located in the southeastern portion of MCAS Miramar near the community of Tierrasanta. The project will also provide land for two elementary schools and a community center or park within the development area. Access to the site will require an approximately 2.5 mile extension of Santo Road, involving approximately 34 acres. Existing internal roads to eastern MCAS Miramar, also known as East Miramar, will provide secondary emergency access. The extension of Santo Road will provide direct access to State Route (SR) 52 approximately one mile east of I-15. For MCAS Miramar enlisted personnel residing at the MFH, access to MCAS Miramar Main Station gates will be via I-15 to Miramar Road or Miramar Way.

The Proposed Action will be implemented through DON's Public-Private Venture (PPV) housing program, a program authorized by law, to give the Department of Defense (DOD) the authority to employ a variety of private sector approaches to build or renovate MFH using private capital to leverage government funds. Using the PPV approach for the Proposed Action, DON will lease land to a private sector developer who will build, own, operate, and maintain the MFH. The developer will, in turn, rent the MFH to enlisted military families at rental rates at or below each service member's Basic Allowance for Housing (BAH). The private sector developer will contribute the majority of upfront development costs and will fund all ongoing operations and maintenance of the homes. With government oversight, the PPV entity will provide most of the environmental mitigation required by the FEIS.

Alternatives Considered: A screening process, based upon criteria set forth in the Environmental Impact Statement (EIS), identified a reasonable range of alternatives that would satisfy the Navy's purpose and need. Three alternatives and the no action alternative were analyzed in detail in the EIS.

The preferred alternative is Site 8A, the least environmentally sensitive of the three sites. Site 8A will provide more MFH units than either of the two other alternatives considered. This alternative provides for construction of up to 1,600 units comprised of 282 buildings including two-story duplexes, fourplexes, sixplexes, and eightplexes. Up to 188 MFH units will meet the Americans with Disability Act standards. Land for two elementary schools and a community center or park will be located in the development area, along with other recreational facilities to include tot lots, play lots, basketball and sports courts, picnic/barbecue areas, and ball fields. Construction will be phased over a 4-year period, with each phase constructing approximately 25 percent of the total MFH units.

Alternative 8B is a variant of Site 8A, differing only with regard to the access route. Alternative 8B would require construction of a new interchange with SR-52 directly south of the developed area, in addition to a utility corridor along the route of Site 8A's 2.5 mile road between the developed area and the existing Santo Road interchange.

The Site 2 alternative includes 283 acres and would include development of up to 1,000 MFH units in the northwest corner of East Miramar. The location consists of three land parcels connected by a ridge-top road. Site 2 would include land for a school and other site amenities. Access to Site 2 would be via Pomerado Road, one of the main access roads in the area.

Under the Site 3 alternative, up to 1,246 MFH units would be located on 208 acres on East Miramar. Site 3 would include land for a school site and other site amenities. Site 3 would be accessed by a two-mile extension of Miramar Way from its current terminus just east of I-15.

Implementation of the no action alternative would result in no MFH construction. Consequently, the purpose of the Proposed Action, to provide additional suitable, affordable MFH for enlisted military families in the San Diego region, would not be met. The no action alternative is the environmentally preferred alternative because it does not involve any change to the physical environment.

Environmental Impacts: The DON prepared an EIS to evaluate the potential environmental impacts associated with implementation of each of the alternatives for the following environmental resource areas: land use; socioeconomics/environmental justice; utilities; public services; cultural resources; biological resources; soils and geology; water resources; hazardous wastes, substances, and materials; traffic/circulation; air quality; noise; and, public safety/environmental health and safety risks to children. Chapter 4 of the FEIS provides a detailed discussion of impacts and mitigation measures.

The preferred alternative, Site 8A, presents no significant impacts to land use, socioeconomics/environmental justice, hazardous wastes, substances and materials, air quality, and noise; thus, no mitigation measures are offered in those areas. Implementation of the preferred alternative will result in impacts on several resources at MCAS Miramar, but the DON and the PPV entity building the project and responsible for MFH operation will implement mitigation measures to ensure that impacts are not significant.

Site 8A is part of an operational range. Because MFH is incompatible with use of Site 8A as an operational range, the portion of the operational range that will comprise the MFH footprint and its surrounding safety buffer zone will be closed. The closed portions of the operational range will undergo a munitions response following the requirements of the Comprehensive Environmental Response, Compensation, and Liability Act (CERCLA), 42 U.S.C. 9601 et seq. and the National Contingency Plan, 40 CFR part 300. Once the munitions response is complete, Site 8A land use will be compatible with MFH.

Absent mitigation, the preferred alternative would impact utilities, as several downstream sections of the sewer lines cannot accommodate the development. Development of Site 8A will result in an increased demand for fire and police services at MCAS Miramar.

The military families within MFH on Site 8A will add approximately 1,175 elementary students, 231 middle school students, and 164 high school students to the area. Based on the number of elementary school students projected for Site 8A, the MFH will create a need for the equivalent of two elementary schools.

One archaeological site, a sparse lithic scatter, will be impacted by the development of Site 8A. The DON initiated consultation with the State Historic Preservation Officer (SHPO) on December 9, 1999, and executed the SHPO's established testing plan for sparse lithic scatters. The Cedar Fire of October 26, 2003, revealed that two sparse lithic scatters in the area are actually one large lithic scatter, requiring modification of the testing plan. The DON submitted the amended plan to the SHPO on March 9, 2004, and the test results on April 15, 2004. The SHPO concurred with DON's conclusion that the site is not eligible for listing on the National Register of Historic Places (NRHP). Some areas on Site 8A that were inaccessible prior to the October 26, 2003, fire are now accessible, and based on current discussions with the SHPO, DON will evaluate whether to survey and/or test such areas during the CERCLA munitions response. It is not anticipated that cultural resources will be impacted within the safety buffer area since the munitions response in this area is expected to be limited to surface detection and removal.

Development of the project site, including the munitions response, site grading, and construction, will have no effect on Federally listed threatened or endangered species. Absent mitigation, significant impacts to biological resources, including regionally and locally declining vegetation and habitat types (e.g., Diegan coastal sage scrub, native grasslands, vernal pools) and jurisdictional waters (e.g., freshwater seeps) of the United States would occur when the site is developed. The munitions response in the safety buffer zone could result in permanent impacts to certain sensitive resources, such as vernal pools. Temporary, indirect impacts could occur to biological resources from fugitive dust or noise generated by munitions detonation. Permanent land use controls, such as fences, could have permanent indirect impacts if they displace biological resources, or are situated in drainage courses where they will alter hydrological processes such as erosion and sedimentation.

Absent mitigation, significant impacts would occur during construction at Site 8A on roadway segments between Miramar Way and I-15 northbound and Kearny Villa Road northbound. Impacts to the following intersections would occur: Kearny Villa Road southbound/Miramar Way; Kearny Villa Road northbound/Miramar Way; 1-15 southbound ramps/Miramar Way; and, Santo Road/SR-52 eastbound and westbound ramps as well as the existing bridge. Absent mitigation, the completed project would significantly impact Miramar Way/I-15 northbound ramps to Kearny Villa Road northbound ramps.

Munitions and Explosives of Concern (MEC), if not mitigated, would pose a potential for significant public safety impacts during both the construction and occupancy phases of the project. During construction, site workers could come into contact with MEC. During occupancy, housing residents could encounter and unintentionally detonate MEC located on the project footprint and in the safety buffer zone. Children within the MFH site could be exposed to potential risks associated with MEC.

Mitigation: Unless otherwise specified, mitigation measures identified in the FEIS will be the responsibility of the PPV entity, and such measures will be specified in the contractual agreements and real estate instruments governing the relationship between the PPV entity and the DON. The PPV agreement will reserve to DON the authority to oversee all mitigation actions undertaken by the PPV entity.

Several sections of the sewer lines in Santo Road south of SR-52 will be upgraded and pumping stations will be constructed on the proposed access road for those portions of the road adverse to grade, thus reducing impacts to utilities to below significance.

MCAS Miramar plans to construct an additional fire station in East Miramar in 2008. The new station will be located at Site 8A, and the existing station will remain in place. MCAS Miramar will construct a temporary fire station upon first occupancy, pending construction of the new facility. In addition, MCAS Miramar will increase staffing of the MCAS Miramar military police force. These measures will reduce impacts to police and fire services to below significance.

School impacts will be mitigated by providing approximately 13.3 acres of land to the San Diego Unified School District, the availability of Federal Impact Aid administered by the U.S. Department of Education (in addition to possessory interest taxes paid by the PPV entity to the State of California), and advanced notice to the school district of the development schedule.

At present, no mitigation will be necessary with regard to cultural resources, because the impacted site is not eligible for listing on the NRHP. If NRHP eligible sites are identified during the CERCLA munitions response, National Historic Preservation Act (NHPA) requirements will be incorporated as applicable or relevant and appropriate requirements (ARARs) under CERCLA.

Sections 6 and 7 of MCAS Miramar's Integrated Natural Resources Management Plan (INRMP) prescribe compensation ratios to mitigate habitat impacts. When applying the compensation ratios for habitat impacts, the quality of the vegetation/habitat type will be taken into consideration. When degraded vegetation/habitat types are involved, the ratios will be adjusted to achieve an equivalent compensation. A lower compensation ratio will be appropriate where high-quality habitat is being offered for impacts to a degraded habitat.

Implementation of the following measures will ensure that there will be no significant direct impacts to the Diegan coastal sage scrub and native grasslands: providing habitat compensation at a ratio of 1:1 for habitat unoccupied by listed threatened and endangered species; and compensating for disturbed habitat that is unoccupied by listed threatened and endangered species at a ratio of 0.5:1, either on MCAS Miramar or off MCAS Miramar through habitat preservation, creation, or enhancement.

Implementation of the following measures will ensure that there will be no significant direct impacts to vernal pools: Providing habitat compensation at a ratio of 2:1 (no threatened or endangered species present); avoiding work around vernal pools during the rainy season or when ground is wet (generally from November 1 to April 30); and before construction, salvaging vernal pool soil (plants, seeds, cysts, and soil) during the dry season for later use in restoration.

Provision of habitat compensation at a ratio of 2:1, either on MCAS Miramar or off MCAS Miramar through habitat preservation, creation, or enhancement, will ensure that there will be no significant direct impacts to the freshwater seeps.

The nature and extent of impacts to biological resources from the munitions response in the safety buffer zone cannot be determined before it begins. However, in addition to the measures discussed below for each resource, the PPV entity will ensure the presence of a qualified biological monitor at sensitive biological resource sites to minimize impacts during vegetation trimming and MEC excavations. At a minimum, the monitor will conduct a general survey of the munitions response site before and after cutting and excavations in order to quantify the extent of impacts. The monitor will also identify sensitive areas that should be avoided, and will identify alternative routes for equipment access and alternative times for clearance activities to avoid impacts during portions of the season when certain resources are more vulnerable to impacts.

Implementation of the following measures will ensure that there will be no significant impact to regionally rare and declining habitats in the safety buffer zone: providing habitat compensation for regionally rare and declining habitats at replacement ratios identified in Table 6 of the INRMP for permanent impacts from the construction of any land use controls; brush thinning to facilitate munitions response equipment and ensure that personnel access will not remove plant roots and that above-ground biomass will be properly disposed of or recycled for mulch; minimizing the area of impact and soil loss; and implementing passive restoration of temporary disturbance areas.

To ensure that the munitions response in the safety buffer zone is not likely to jeopardize the continued viability of any endangered or threatened species, the DON will consult, as appropriate, with U.S. Fish and Wildlife Service (USFWS). If such discussions reveal measures necessary to avoid jeopardy to a species, such measures will be implemented, and no other mitigation measures will be necessary to avoid a significant impact. In light of USFWS comments on the FEIS, as discussed below, the DON will conduct gnatcatcher surveys within one year prior to any brush thinning, grading, or ground disturbance activities in either the development footprint or in the safety buffer zone. If gnatcatchers are observed at that point, appropriate measures will be implemented in consultation with the USFWS to avoid jeopardizing the viability of the species. Similarly, vernal pools and road ruts within the development footprint will be surveyed for the presence of fairy shrimp within one year prior to initiation of grading. If, however, dry conditions prevent ponding necessary for fairy shrimp surveys, the DON will have to rely on existing survey data as the best information available for that species.

Any habitat clearing activities will be timed to avoid the breeding season of most migratory birds to the maximum extent practicable to avoid damage to active bird nests. If habitat clearing outside of the breeding season is infeasible, the DON and PPV entity will coordinate with the USFWS to implement requirements to mitigate impacts to migratory birds.

Traffic impacts during construction and afterward will be mitigated to less than significant through the following measures: at the Miramar Way—I-15 Northbound Ramps to Kearny Villa Road, the PPV entity will provide a fair-share contribution toward the re-striping of Miramar Way, between the I-15 northbound ramps and the Kearny Villa northbound ramps, to create a second westbound lane—the current width of the overpass, 40 feet, provides adequate width for this re-striping; at Kearny Villa Road Southbound Ramps/Miramar Way, the PPV entity will provide a fair-share contribution for the construction of a traffic signal; for Kearny Villa Road Northbound Ramps/Miramar Way, the PPV entity will provide a fair-share contribution for the installation of a traffic signal and construction of an exclusive right-turn lane at the Miramar Way westbound intersection approach, an improvement that will require re-striping of the Miramar Way westbound intersection approach; for I-15 Southbound Ramps/Miramar Way, the PPV entity will provide a fair-share contribution for the construction of a traffic signal at this intersection (meets California Department of Transportation (CALTRANS) Warrant #2, “Interruption of Continuous Traffic”); a second through-lane at the Miramar Way westbound approach will also be recommended, which is consistent with the roadway re-striping necessary on the Miramar Way overpass; and for Santo Road/SR-52 Eastbound Ramps, the PPV entity will provide a traffic signal, an improvement required in association with the widening of the Santo Road bridge and resulting in a situation that with signalization, the intersection will operate at Level of Service (LOS) A during the AM peak hour and LOS B during the PM peak hour. For Santo Road/SR 52 Westbound ramps, the PPV entity will provide the following improvements required in order to provide access to and from Site 8A: installing a traffic signal; widening the Santo Road bridge over SR 52 by 12 feet to accommodate a southbound left-turn lane; adding a northbound right-turn lane; adding a lane on the off-ramp; and adding an east leg (access to/from Site 8A). With all these improvements, these intersections will operate at an acceptable LOS and project-related impacts will be reduced to levels below significance.

The following specific procedures will be implemented during the munitions response and in subsequent construction design and operation on the site footprint. These measures will include: Soil excavation for the footprint of Site 8A, including the 100-foot (30.5-meter) firebreak around the perimeter of the housing site; the development and implementation of an Environmental Protection Plan (EPP) and Explosive Safety Submission (ESS) to ensure environmental mitigation commitments are being met and explosive safety hazards minimized; and survey and clearance from the development footprint of any brush remaining after the October 2003 wildfire, including brush clearance on areas with slopes under 30 percent to accommodate towed and man portable detection equipment and brush clearance on areas greater than 30 percent slope to create lanes sufficiently wide to accommodate movement of personnel and hand-held magnetometers. The munitions response within the developable footprint of Site 8A will be an iterative process of excavation and magnetometer use, with an anticipated excavation depth to 3 feet (1 meter).

The munitions response within the footprint of Site 8A, including the 100-foot (30.5) firebreak, will follow CERCLA and the National Contingency Plan with oversight by the PPV entity's quality control officer and by the government. The munitions response will also follow DOD and DON policies regarding munitions response.

All surface and subsurface anomalies within the developable footprint of Site 8A will be located and geo-referenced for reacquisition during the munitions response. Any MEC not previously detected within the developable footprint of Site 8A will be identified visually by qualified Unexploded Ordnance (UXO) technicians during this munitions response and any follow-on site preparation.

At a minimum, the upper 3-foot (1-meter) layer of soil within the developable footprint of Site 8A will be characterized and ultimately placed in a canyon. The detection and response to MEC and excavation to 3 feet of soil will be repeated until no MEC is detected. The specific requirements for any characterization, removal, and disposal of soil from the munitions response site will be identified under CERCLA, but the process will at minimum include the following: Excavated soil will be placed as fill over soil previously cleared of MEC, serving as a cap that will not be less than 3 feet (1 meter) deep; ground cover or soil stabilization measures will be employed over any filled areas in the canyon to minimize erosion; qualified UXO technicians will oversee the soil excavation, filling, and site infrastructure and foundation work; and without additional fill, excavation will over-excavate soil at least 3 feet (1 meter) below any MEC response.

A safety buffer zone will be established around the MFH perimeter. The safety buffer zone will be identified, in part, based on range usage in range fans associated with historical training at the former Camp Elliott, which overlap Site 8A and extend off-site within station boundaries. The size of the safety buffer zone will be based on the MEC encountered and the safe distances prescribed in Explosive Ordnance Disposal (EOD) Publication 60A-1-1-4, Table 2-4.

It is anticipated that the following site-specific procedures will be implemented during the munitions response for the Site 8A safety buffer zone: development and implementation of an EPP and ESS to ensure environmental mitigation commitments are being met and explosive safety hazards minimized; survey of the entire safety buffer zone prior to the detector-aided surface munitions response; selective trimming of vegetation where necessary to facilitate the munitions response; and if necessary, brush clearance within the buffer areas will include trimming of the brush within identified access lanes to accommodate the use of man-portable detection equipment, and provide for emergency egress, with special field procedures used for sites having greater than 30 percent slope. The munitions response will include detector-aided visual acquisition and response to surface MEC and range debris. The munitions response within the safety buffer zone will follow CERCLA, the National Contingency Plan, DOD, and DON policies with oversight by the PPV entity's quality control officer and by the government.

It is anticipated that land use controls, including legal mechanisms, engineering controls, and educational programs will be part of the remedy selected in the munitions response. The site-specific land use controls that may be employed at the selected site and surrounding safety buffer zone will be tailored to the munitions response and may include the following: Legal mechanisms, such as an amendment to the installation master plan; engineering controls, including fences, warning signage and landscaping; and educational programs, including rental notices, educational materials, and annual MEC awareness programs for MFH management personnel.

For the Site 8A safety buffer zone perimeter, an 8-foot high containment fence or other appropriate engineering control will be constructed at the far extent of the 100-foot (30.5-meter) firebreak and the beginning of the safety buffer zone. A fence or other appropriate engineering control will be provided around the exterior of the permanent safety buffer perimeter.

Every fifth year, a review required by CERCLA, 42 U.S.C. 9621(c) will be conducted to assess the selected remedy's protectiveness. This will include a review of the continued effectiveness of land use controls. This five-year review will also include a limited visual inspection for the presence of any MEC within the munitions response site as well as soil erosion/stability. Depending on the CERCLA process, this five-year review may also entail a survey of housing residents to validate awareness training and other educational programs, and a review of any recorded EOD responses by MCAS Miramar personnel.

The preferred alternative presents no other significant impacts that cannot be mitigated.

Response to Comments Received Regarding the Final Environmental Impact Statement: The FEIS was distributed to government agencies and the public on June 25, 2004, for a 30-day public review period. The DON received comments on the FEIS from one Federal agency, one state agency, two cities, one school district, one city water department, and one community planning agency. The comments identified concerns related to school impacts, traffic impacts, fire safety, water use, visual resources, and consistency with city planning requirements. Many of these comments simply stated support for or opposition to the preferred alternative. Others reiterated comments that were received on the DEIS and responded to in the FEIS. Comments of general support or opposition are not addressed in the ROD. Comments restating issues previously raised are not addressed in the ROD because they were addressed in the FEIS and responses to comments on the DEIS. New issues raised in comments received during the 30-day public review period are addressed below.

The City of San Diego urges the DON to consider using recycled water on the project. The DON is committed to following applicable Federal law and executive orders regarding recycling water and other products, including Executive Order 13101, Greening the Government through Waste Prevention, Recycling and Federal Acquisition (1998) and Executive Order 12902, Energy Efficiency and Water Conservation at Federal Facilities (1994).

The City of San Diego commented that the FEIS should meet California Environmental Quality Act (CEQA) standards as well as NEPA requirements, and that it should propose mitigation consistent with city standards for impacts that may result from any city actions. The city did not identify what those actions would be. Regardless, this Federal action is not subject to CEQA, and therefore, mitigation for any city actions would be beyond the scope of this FEIS.

CALTRANS commented that state-owned signalized intersections must be analyzed by using Intersecting Lane Vehicle (ILV) calculations per the Highway Design Manual. Highway Capacity Software (HCS), which the DON used to evaluate all signalized intersections, is an accepted methodology per the CALTRANS Guide for Preparation of Traffic Impact Studies (January 2001). CALTRANS also commented on differences between traffic counts performed by the DON and those performed by CALTRANS during 2001. The differences in the numbers are expected, however, because they reflect the collection of different data. The DON counted traffic at all intersections during a given peak hour period in order to accurately determine total traffic impacts during any specified period. CALTRANS conducted separate counts of separate intersections at separate peak hour times for each intersection, the sum of which does not reflect total traffic impacts at any particular point in time. The DON's traffic analysis accurately projects traffic impacts from the development of Site 8A.

The Tierrasanta Community Council commented that the traffic study underestimates the traffic impacts on Santo Road, Clairemont Mesa Boulevard, and Tierrasanta Boulevard associated with commuters avoiding congested freeways. The DON's traffic impact analysis considered a number of factors in developing traffic distribution patterns for Site 8A, including modeled traffic assignments, travel time studies on freeways and surface routes, and community input. The projected traffic distribution patterns reflect the expert professional judgment of the DON's traffic engineer.

The City of Santee commented that the FEIS must study impacts associated with projected closure of the Miramar Landfill, which the City of Santee estimates at 2010. Solid waste generated by 1,600 families will not significantly accelerate the date at which the landfill reaches capacity. Once the landfill reaches capacity, the impacts to MFH will be the same as the impacts to the rest of the City of San Diego. Analysis of future landfill options at this point would be speculative and beyond the scope of the FEIS.

The USFWS commented that, in light of the expected period between the ROD and the beginning of grading construction activities, any such activities should be preceded by timely protocol level surveys for the California gnatcatcher and the San Diego fairy shrimp. As discussed in the mitigation section above, the DON will conduct such surveys as part of the CERCLA munitions response. If, however, dry conditions prevent ponding necessary for fairy shrimp surveys, the DON will necessarily rely on existing survey data as the best information available for that species.

The USFWS further commented that the DON should mitigate for the loss of gnatcatcher habitat as if any pre-fire occupied habitat remained so occupied. The USFWS points to statements in the FEIS regarding mitigation assuming pre-fire conditions. The FEIS makes clear, however, that the DON will not assume that occupied territories destroyed by the Cedar Fire remain occupied.

The DON assumes vegetation will grow back if no development occurs. The DON does not assume previously occupied gnatcatcher territories will again become occupied, because the gnatcatchers that previously occupied any such territories were either killed or displaced by the Cedar Fire. Pre-construction gnatcatcher surveys will identify whether and where any gnatcatcher reoccupations have occurred at that point. Loss of actual occupied gnatcatcher habitat, if any, will be mitigated according to the ratio for occupied habitat in the INRMP.

Conclusions: After carefully considering the purpose and need for the proposed action, the analysis contained in the EIS, and the comments received on the EIS from Federal, state, and local agencies, non-governmental organizations, and individual members of the public, I have determined that the preferred alternative, Site 8A, will best meet the needs of the DON for the following reasons:

—It best addresses the critical shortage of MFH in the San Diego area, especially given the limited availability of sites that meet Navy criteria and which could accommodate the number of housing units envisioned in the proposed action.

—It is environmentally preferred to the Site 8B, Site 2, and Site 3 alternatives.

—Significant impacts caused by the proposed action can be mitigated. Most mitigation measures can be accomplished by the PPV entity with appropriate DON oversight.

—Sufficient actions, through CERCLA compliance, land use controls, and site clearance, will be taken to minimize the potential threat posed by the presence of MEC to construction personnel, housing residents, and members of surrounding communities.

Dated: August 12, 2004.
Wayne Arny,
Deputy Assistant Secretary of the Navy (Installations and Facilities).

[FR Doc. 04-19157 Filed 8-19-04; 8:45 am]

BILLING CODE 3810-FF-P